DEPARTMENT OF ENERGY

Federal Energy Regulatory Commission

[Docket No. CP10-129-000]

B-R Pipeline Company; Notice of Application

April 9, 2010.

Take notice that on April 8, 2010, B-R Pipeline Company (B-R), Department 153-61, 550 West Adams Street, Chicago, Illinois 60661-3676, filed with the Commission an application in Docket No. CP10-129-000, pursuant to section 7 of the Natural Gas Act (NGA) and subpart F of part 157 of the Commission's Regulations, for a blanket certificate to perform certain activities under section 157.203 of the Commission's Regulations, as more fully set forth in the application which is open to public inspection. This filing may be also viewed on the Web at http://www.ferc.gov using the “eLibrary” link. Enter the docket number excluding the last three digits in the docket number field to access the document. For assistance, please contact FERCOnline Support at FERCOnlineSupport@ferc.gov or toll free at (866) 208-3676, or TTY, contact (202) 502-8659.

Any questions regarding this application should be directed to Counsel for B-R Pipeline Company, William H. Penniman or Michael Brooks, Sutherland Asbill & Brennan LLP, 1275 Pennsylvania Avenue, Washington, DC 20004-2415, or via telephone at (202) 383-0100, facsimile number (202) 637-3593, and e-mail: William.penniman@sutherland.com or Michael.brooks@sutherland.com.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions via the Internet in lieu of paper. See, 18 CFR 385.2001(a) (1) (iii) and the instructions on the Commission's Web site (http://www.ferc.gov) under the “e-Filing” link.

Comment Date: April 19, 2010.

Kimberly D. Bose,
Secretary.

[FR Doc. 2010-8701 Filed 4-15-10; 8:45 am]

BILLING CODE 6717-01-P